DEPARTMENT OF HEALTH AND HUMAN SERVICES

Administration for Children and Families

Notice of Award of Non-Competitive Grant

AGENCY: Administration for Native Americans, ACF, DHHS.

ACTION: Notice.

SUMMARY: Notice is hereby given that ACF is considering awarding FY 2002 ANA grant funds without competition to the Chickasaw Nation for a 12 month project in the amount of $150,000. The project period would begin September 30, 2002 and end September 29, 2003. This award will be made to the Chickasaw Nation to provide Federal support for the integration of Tribal, State and regional resources to offer services that will provide the skills and knowledge needed to sustain healthy families and marriages.

The Chickasaw Nation's Strong Family Project is designed to eliminate the fragmentation of services and integrate community services that impact couples, youth and families such as the tribal court system and other family services, as well as partner with the State's Oklahoma Marriage Initiative for training of tribal staff.

Statutory Authority: This award will be made pursuant to the Native American Programs Act, as amended, 42 U.S.C. 2991 et seq.

ADDRESSES: Interested parties, including qualified organizations which would be interested in competing for the funding if a competition were held, should write to: Sharon G. McCully, Administration for Native Americans, Administration for Children and Families, 370 L'Enfant Promenade SW., Aerospace Center 8th Floor West, Washington, DC 20447.

FOR FURTHER INFORMATION CONTACT: Sharon G. McCully, ANA, at 1-877-922-9262.

(Catalog of Federal Domestic Assistance Program Number 93612, ANA)
Dated: September 27, 2002.
Sharon G. McCully,
Acting Deputy Commissioner, Administration for Native Americans.

[FR Doc. 02-25273 Filed 10-3-02; 8:45 am]

BILLING CODE 4184-01-M